DEPARTMENT OF STATE

[Public Notice: 7225]

Bureau of Educational and Cultural Affairs (ECA) Request for Grant Proposals: The Future Leaders Exchange (FLEX) Program: Host Family and School Placement and Monitoring

Announcement Type: New Grant.

Funding Opportunity Number: ECA/PE/C/PY-11-04.

Catalog of Federal Domestic Assistance Number: 19.415.

Application Deadline: January 5, 2011.

Executive Summary: The Future Leaders Exchange (FLEX) program seeks to promote mutual understanding between the United States and the countries of Eurasia by providing secondary school students from the region the opportunity to live in American society for an academic year. In turn, these students will expose U.S. citizens to the culture, traditions, and lifestyles of people in Eurasia.

Organizations are invited to submit proposals to identify host schools; vet, select, and monitor host families; and place and monitor a portion of the students participating in the FLEX program during the 2011-12 academic year. Pending the availability of funds, an FY 2011 grant will provide the monies required to recruit and screen host families; secure school placements; conduct student and host family orientations; provide cultural and educational enrichment activities; handle all counseling and programmatic issues; and evaluate program implementation.

I. Funding Opportunity Description Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The FLEX Program seeks to provide approximately 1,000 high school students from Eurasia with an opportunity to live in the United States for the purpose of promoting mutual understanding between our countries. Participants will reside with American host families and attend high school during the 2011-12 academic year. Public and private non-profit organizations meeting the provisions described in Internal Revenue Code section 26 USC 501(c)(3) may submit proposals to recruit and select host families and schools for high school students between the ages of 15 and 17 from Eurasia. This solicitation refers only to FLEX students from the following Eurasian countries: Armenia, Azerbaijan, Georgia, Kazakhstan, Kyrgyzstan, Moldova, Russia, Tajikistan, Turkmenistan, and Ukraine.

In addition to identifying schools and screening families, organizations will be responsible for: (1) Providing English language enhancement activities for approximately 10% of their students who are specially identified; (2) orienting all students to local conditions, resources and opportunities; (3) orienting host families to program specifics; (4) providing support services for students; (5) arranging enhancement activities and skill-building opportunities; (6) monitoring student, family and coordinator performance and progress; (7) providing mid-year programming and re-entry training; and (8) evaluating project success. Preference will be given to those organizations that offer participants opportunities to develop leadership skills and raise their awareness of tolerance and civic responsibility through community activities and networks. The number of students who will participate is subject to the availability of funding in fiscal year 2011.

During the year, FLEX participants will be engaged in a variety of activities, such as community and school-based programs, skill-building workshops, and cultural events. Academic year 2011-12 will be the 19th year of the FLEX program, with more than 20,000 students having been awarded scholarships since the program's inception.

Goal: The goal of the program is to promote mutual understanding and foster relationships between the people of Eurasia and the United States by enabling students to:

• Gain an understanding of American culture, diversity, and respect for others with differing views and beliefs;

• Teach Americans about their home countries and cultures;

• Interact with Americans and generate enduring ties;

• Explore and acquire an understanding of the key elements of U.S. civil society, including concepts such as volunteerism, the idea that American citizens can and do act at the grassroots level to deal with societal problems, and an awareness of and respect for the Rule of Law; and

• Share and apply experiences and knowledge in their home communities as FLEX alumni, initiating activities that focus on development and community service.

Objectives: The objectives of the FLEX placement and monitoring component are:

• To place approximately 1,000 pre-selected high school students from 10 Eurasian countries in safe, qualified, well-suited host families;

• To place students in accredited schools;

• To expose program participants to American culture and enable them to obtain a broad view of U.S. society and history;

• To provide appropriate venues for program participants to share their culture, lifestyles, and traditions with U.S. citizens;

• To provide participants with development opportunities that foster leadership skills they can take back with them and use in their home countries; and

• To provide activities that will increase and enhance students' leadership capacity, enabling them—as FLEX alumni—to initiate activities in their home countries that focus on development and community service.

Other Components: One organization already has been awarded a grant to administer the “Organizational Components” of the FLEX program, and performs the following functions: Recruitment and selection of Eurasian students; assistance in documentation and preparation of DS-2019 visa forms; preparation of cross-cultural materials; pre-departure orientation; international travel from home to host community and return; facilitation of ongoing communication between the natural parents and the placement organization, as needed; maintenance of a student database and provision of data to the U.S. Department of State; and ongoing follow-up with alumni after their return to Eurasia.

Another organization is currently responsible for supporting students with disabilities. This includes a pre-program orientation, a year-end reentry training, and support throughout the year in order to help them cope with challenges specific to their circumstances. Students with disabilities may need supplementary independence skills training early on in the program. Placement organizations will be in direct communication with both organizations.

Guidelines: Applicants are requested to submit a narrative outlining a comprehensive strategy for the administration and implementation of the placement component of the FLEX program that includes the following responsibilities:

1. Recruitment, screening, selection, and FLEX-specific orientation of local coordinators and host families;

2. Enrollment of participants in an accredited school;

3. Post-arrival orientation for participants;

4. Placement of a small number of students with disabilities;

5. Pre-program specialized English language programming for pre-selected students who require focused preparation for their academic year;

6. Preparation and dissemination of placement organization materials to the organization administering the “Organizational Components” by May 1, 2011 (these materials will be distributed to the students at the Pre-Departure Orientation);

7. Troubleshooting;

8. Monitoring of students, host families and local coordinators;

9. Quarterly evaluation of the organization's success in achieving program goals;

10. Mid-year programs to assess progress; and

11. Re-entry training to prepare students for readjustment to their home environments.

Applicants must request a grant for placement and monitoring of at least 30 students; there is no maximum number of students that may be placed by one organization. Placements may be in any region of the United States. Strong preference will be given to organizations that choose to place participants in clusters of at least three students (these students should be from different countries) in a particular Local Coordinator's area of responsibility. Please refer to the POGI for details on essential program elements, permissible costs, and criteria used to select and place students. We anticipate grants beginning no later than April 2011, subject to the availability of funds.

Participants will begin to arrive in their host communities in late July 2011 and remain for 10 or 11 months until their departure mid-May to late June 2012. Students with disabilities and students requiring supplementary English language instruction may arrive earlier.

Administration of the program must be in compliance with federal, state, and local tax reporting and withholding regulations as applicable. Recipient organizations must demonstrate regulation adherence in the proposal narrative and budget.

Applicants must submit the health and accident insurance plans they intend to use for students on this program. The Bureau offers the Accident and Sickness Program for Exchanges (ASPE) plan for students participating in the program. Placement Organizations wishing to use a different plan must demonstrate that such alternate plan a) provides comparable or more comprehensive coverage and b) costs less. Coverage must begin when students depart their home countries and not conclude until they return home. Please keep in mind that the students with disabilities who participate in the July post-arrival workshop must be covered by the Placement Organization's health insurance policy while they are participating in the workshop.

II. Award Information

Type of Award: New Grant.

Fiscal Year Funds: FY 2011.

Approximate Total Funding: $8,000,000.

Approximate Number of Awards: 10-15 grants.

Approximate Average Award: Funding level is dependent on the number of proposed students, monitoring, the quality of support, and volume of activities.

Anticipated Award Date: Pending availability of funds, April 2011.

Anticipated Project Completion Date: August 2012.

Additional Information: Pending successful implementation of this program and the availability of funds in subsequent fiscal years, it is ECA's intent to renew this grant for two additional fiscal years, before openly competing it again.

III. Eligibility Information

III.1. Eligible Applicants: Applications may be submitted by public and private non-profit organizations meeting the provisions described in Internal Revenue Code section 26 USC 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: Bureau grant guidelines require that organizations with fewer than four years experience in conducting international exchanges be limited to $60,000 in Bureau funding. Since an award to support program and administrative costs required to implement this exchange program for a minimum of 30 students will exceed $60,000, organizations with less than four years experience in conducting international exchanges are ineligible to apply under this competition. The Bureau encourages applicants to provide maximum levels of cost sharing and funding in support of its programs.

IV. Application and Submission Information

Please read the complete announcement before sending inquiries or submitting proposals. Once the RFGP deadline has passed, Bureau staff may not discuss this competition with applicants until the proposal review process has been completed.

IV.1 Contact Information to Request an Application Package: Please contact The Youth Programs Division, ECA/PE/C/PY, SA-5, Floor 3, U.S. Department of State, Washington, DC 20037, telephone (202) 632-6416, and fax (202) 632-9355, e-mail Amrote Molla at MollaAB@state.gov to request a Solicitation Package. Please refer to the Funding Opportunity Number ECA/PE/C/PY-11-04 located at the top of this announcement when making your request.

Alternatively, an electronic application package may be obtained from Grants.gov. Please see section IV.3f for further information.

The Solicitation Package contains the Proposal Submission Instruction (PSI) document, which consists of required application forms and standard guidelines for proposal preparation. It also contains the Project Objectives, Goals and Implementation (POGI) document, which provides specific information, award criteria and budget instructions tailored to this competition.

Please specify the Funding Opportunity Number (ECA/PE/C/PY-11-04) at the top of this announcement on all inquiries and correspondence.

IV.2. To Download a Solicitation Package via the Internet: The entire Solicitation Package may be downloaded from the Bureau's Web site at http://exchanges.state.gov/grants/open2.html or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways: Those who file Internal Revenue Service Form 990, “Return of Organization Exempt From Income Tax,” must include a copy of relevant portions of this form. Those who do not file IRS Form 990 must submit information above in the format of their choice.

In addition to final program reporting requirements, award recipients will be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J-Visa: The Office of Citizen Exchanges of the Bureau of Educational and Cultural Affairs is the official program sponsor of the exchange program covered by this RFGP, and an employee of the Bureau will be the “Responsible Officer” for the program under the terms of 22 CFR part 62, which covers the administration of the Exchange Visitor Program (J-visa program). Under the terms of 22 CFR part 62, organizations receiving awards (either a grant or cooperative agreement) under this RFGP will be third parties “cooperating with or assisting the sponsor in the conduct of the sponsor's program.” The actions of recipient organizations shall be “imputed to the sponsor in evaluating the sponsor's compliance with” 22 CFR part 62. Therefore, the Bureau expects that any organization receiving an award under this competition will render all assistance necessary to enable the Bureau to fully comply with 22 CFR part 62 et seq.

The Bureau of Educational and Cultural Affairs places critically important emphases on the secure and proper administration of Exchange Visitor (J-visa) Programs and adherence by recipient organizations and program participants to all regulations governing the J-visa program status. Therefore, proposals should explicitly state in writing that the applicant is prepared to assist the Bureau in meeting all requirements governing the administration of Exchange Visitor Programs as set forth in 22 CFR part 62.

Please Note: The Department of State is revising existing Secondary School Student regulations regarding the screening, selection, school enrollment, orientation, and quality assurance monitoring of exchange students as well as the screening, selection, orientation, and quality assurance monitoring of host families and field staff. Regulation revisions will be effective as of November 26, 2010. For more details, please visit http://exchanges.state.gov/jexchanges. Any organization approved for funding will be responsible for complying with all regulations in effect during the time of the award.

If your organization has experience as a designated Exchange Visitor Program Sponsor, you should discuss your record of compliance with 22 CFR part 62 et seq., including the oversight of Responsible Officers and Alternate Responsible Officers, screening and selection of program participants, provision of pre-arrival information and orientation to participants, monitoring of participants, proper maintenance and security of forms, record-keeping, reporting and other requirements. ECA will review the record of compliance with 22 CFR part 62 et seq. of applicant organizations designated as Exchange Visitor Program Sponsors by ECA's Office of Private Sector Exchange as one factor in evaluating the record/ability of organizations to carry out successful exchange programs.

The Office of Citizen Exchanges of ECA will be responsible for issuing DS-2019 forms to participants in this program.

A copy of the complete regulations governing the administration of Exchange Visitor (J) programs is available at http://exchanges.state.gov or from: Office of Designation, ECA/EC/D, SA-5, Floor C2, Department of State, Washington, DC 20037.

IV.3d.2 Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ``Support for Diversity'' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Funds provided through this award may not be used to promote participation in, or to purchase equipment or supplies intended for, activities related to religious worship or proselytization. Host families, school officials, and grantee organizations shall not require program participants to attend religious services. However, as part of their exchange experience, participants may be offered the opportunity to take part voluntarily in this facet of their host culture, at their own discretion. Volunteer host families (who receive no financial benefit from grant funds) are encouraged to enable participants living with them to attend services of the participant's religion, if the participant so desires and the services are available within a reasonable distance of the host family's residence.

IV.3d.3. Program Monitoring and Evaluation: Program Monitoring includes Participant Monitoring, which focuses specifically on ensuring students' safety and well-being throughout the year; see Review Criterion #5 for details and instructions. This section focuses on other aspects of Program Monitoring.

Program Monitoring: Proposals must include a plan to monitor and report on the project's success, both as the activities unfold and at the end of the program. The Bureau recommends that your proposal include a draft survey questionnaire or other technique, plus a description of a methodology that will be used to link outcomes to original project objectives. The Bureau expects that the grantee will track participants and be able to respond to key monitoring questions throughout the year, particularly concerning effects of the program on program participants, their host families and communities.

Successful monitoring depends heavily on setting clear goals and outcomes at the outset of a program. Your monitoring plan should include a description of your project's objectives and how and when you intend to measure these outcomes. You should also show how your project objectives link to the goals of the program described in this RFGP.

Overall, the quality of your monitoring plan will be judged on how well it specifies successes and challenges. Grantees will be required to provide reports analyzing their monitoring findings to the Bureau in their regular program reports. All data collected, including survey responses and contact information, must be maintained for a minimum of three years and provided to the Bureau upon request.

Evaluation: The Bureau's Office of Policy and Evaluation will conduct evaluations of the FLEX program through E-GOALS, its online system for surveying program participants and collecting data about program performance. These evaluations assist ECA and its program grantees in meeting the requirements of the Government Performance Results Act (GPRA) of 1993. This Act requires federal agencies to measure the results of their programs in meeting pre-determined performance goals and objectives. Please see specific responsibilities in the accompanying POGI document.

IV.3e. Please consider the following information when preparing your budget: Applicants must submit SF-424A—“Budget Information—Non-Construction Programs” along with a comprehensive budget for the entire program. The budget must reflect costs for a minimum of 30 participants. Please indicate clearly the number of students funded. There must be a summary budget as well as breakdowns reflecting both administrative and program budgets. Applicants may provide separate sub-budgets for each program component, phase, location, or activity to provide clarification.

Please refer to the Solicitation Package for complete budget guidelines and formatting instructions.

IV.3f. Application Deadline and Methods of Submission:

Application Deadline Date: January 5, 2011.

Reference Number: ECA/PE/C/PY-11-04.

Methods of Submission

Applications may be submitted in one of two ways:

1. In hard-copy, via a nationally recognized overnight delivery service (i.e., Federal Express, UPS, Airborne Express, or U.S. Postal Service Express Overnight Mail, etc.), or

2. Electronically through http://www.grants.gov.

Along with the Project Title, all applicants must enter the above Reference Number in Box 11 on the SF-424 contained in the mandatory Proposal Submission Instructions (PSI) of the solicitation document.

IV.3f.1 Submitting Printed Applications: Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important Note: When preparing your submission please make sure to include one extra copy of the completed SF-424 form and place it in an envelope addressed to “ECA/EX/PM.” The original and eight (8) copies of the application should be sent to: Program Management Division (ECA-IIP/EX/PM), Ref.: ECA/PE/C/PY-11-04, SA-5, Floor 4, Department of State, 2200 C Street, NW., Washington, DC 20037.

IV.3f.2 Submitting Electronic Applications: Applicants have the option of submitting proposals electronically through Grants.gov (http://www.grants.gov). Complete solicitation packages are available at Grants.gov in the “Find” portion of the system.

Please Note: Due to Recovery Act related opportunities, there has been a higher than usual volume of grant proposals submitted through Grants.gov. Potential applicants are advised that the increased volume may affect the grants.gov proposal submission process. As stated in this RFGP, ECA bears no responsibility for applicant timeliness of submission or data errors resulting from transmission or conversion processes for proposals submitted via Grants.gov. Please follow the instructions available in the `Get Started' portion of the site http://www.grants.gov/GetStarted.

Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your Internet connection. In addition, validation of an electronic submission via Grants.gov can take up to two business days. Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes. Direct all questions regarding Grants.gov registration and submission to: Grants.gov Customer Support; Contact Center Phone: 800-518-4726; Business Hours: Monday-Friday, 7 a.m.- 9 p.m. Eastern Time; E-mail: support@grants.gov

Applicants have until midnight (12 a.m.), Washington, DC time of the closing date to ensure that their entire application has been uploaded to the Grants.gov site. There are no exceptions to the above deadline. Applications uploaded to the site after midnight of the application deadline date will be automatically rejected by the grants.gov system, and will be technically ineligible. Please refer to the Grants.gov website, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications. It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process: The Bureau will review all proposals for technical eligibility. Proposals will be deemed ineligible if they do not fully adhere to the guidelines stated herein and in the Solicitation Package. In addition, ECA will review the record of compliance with 22 CFR part 62 et seq. of applicant organizations designated as Exchange Visitor Program Sponsors by ECA's Office of Private Sector Exchange. If it is determined that an applicant organization submitting a proposal has a record of not being in compliance, their proposal will be deemed technically ineligible and receive no further consideration in the review process. If in compliance, the applicant organization's record of compliance will be used as one factor in evaluating the record/ability of organizations to carry out successful exchange programs.

All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

1. Program Planning/Ability to Achieve Program Objectives: Your proposal narrative should exhibit originality, substance, and relevance to the Bureau's mission. Reviewers will assess the degree to which proposals engage participants in community activities that involve skills development and leadership training. A detailed agenda and work plan should adhere to the program overview and guidelines described in the solicitation package. Reviewers also will assess the degree to which the proposed outcomes of the project are realistic and measurable. Strategies should creatively utilize resources at the local level to ensure an efficient use of program funds.

2. Support of Diversity: Proposals should demonstrate substantive support of the Bureau's policy on diversity. Achievable and relevant features should be cited in both program administration (selection of participants, host families, schools, program venue and program evaluation) and program content (orientations, program meetings, resource materials and follow-up activities).

3. Organization's Record/Institutional Capacity: Proposed personnel and institutional resources should be adequate and appropriate to achieve the program or project's goals. Reviewers will assess the applicant and its partners to determine if they offer adequate resources, expertise, and experience to fulfill program objectives. Partner activities should be clearly defined. Proposals should demonstrate an institutional record of successful exchange programs, including responsible fiscal management and full compliance with all reporting and J-1 Visa requirements for past Bureau grants as determined by Bureau Grant Staff. In addition, organizations designated as Exchange Visitor Program Sponsors must include a discussion of their record of compliance with 22 CFR part 62 et seq., including the oversight of their Responsible Officers and Alternate Responsible Officers, screening and selection of program participants, provision of pre-arrival information and orientation to participants, monitoring of participants, proper maintenance and security of forms, record-keeping, reporting and other requirements. Proposals that fail to include the above information in their narrative will be deemed less or not competitive under this review criterion. ECA will review the record of compliance with 22 CFR part 62 et seq. of organizations designated as Exchange Visitor Program Sponsors as one factor in evaluating the record/ability of organizations to carry out successful exchange programs.

4. Multiplier Effect: Proposed programs should strengthen long-term mutual understanding, including maximum sharing of information and establishment of long-term institutional and individual linkages. Reviewers will assess ways in which proposals include innovative ideas to expose U.S. communities to FLEX-related goals and activities that involve students, host families and schools. This includes media outreach, visits to local and national government representatives, Internet-based applications and other interactions. Reviewers will also evaluate substantive plans to prepare FLEX students for their role as active, effective FLEX alumni.

5. Participant Monitoring: Proposals must include a detailed monitoring plan that addresses Student, Local Coordinator (LC) and Host Family (HF) monitoring. Given the importance the Department places on this criterion, you should dedicate a significant percentage of the narrative to explaining how you will achieve the Department's goals in regard to monitoring. You may use the appendices to house additional details and supporting documentation. Please see the Project Objectives, Goals, and Implementation (POGI) for additional details regarding this review criterion.

6. Project Evaluation: Proposals should include a plan to monitor and evaluate the activity's success, both as the activities unfold and at the end of the program. Reviewers will assess your plans to monitor student progress and program activities, particularly in regard to intended outcomes indicated in your proposal. Grantees will be expected to submit quarterly reports, which should be included as an inherent component of the work plan. Your primary method of evaluation is E-GOALS; other organization-specific instruments are encouraged.

Proposals should also specify ways in which students will be encouraged to complete the mandatory end-of-the-year surveys administered through the E-GOALS system.

7. Cost-effectiveness/Cost Sharing: Reviewers will analyze the budget for clarity and cost-effectiveness. They also will assess the rationale of the proposed budget and whether the allocation of funds is appropriate to complete tasks outlined in the project narrative. The overhead and administrative components of the proposal, including salaries and honoraria, should be kept as low as possible. All other items should be necessary and appropriate. Proposals should maximize cost-sharing through other private sector support as well as institutional direct funding contributions. Preference will be given to organizations whose proposals demonstrate a quality, cost-effective program.

VI. Award Administration Information

VI.1. Award Notices: Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2 Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments. OMB Circular No. A-133, Audits of States, Local Government, and Non-profit Organizations.

Please reference the following websites for additional information:

http://www.whitehouse.gov/omb/grants.

http://fa.statebuy.state.gov.

VI.3. Reporting Requirements: You must provide ECA with a hard copy original plus one copy of the following reports:

A final program and financial report no more than 90 days after the expiration of the award.

A concise, one-page final program report summarizing program outcomes no more than 90 days after the expiration of the award. This one-page report will be transmitted to OMB, and be made available to the public via OMB's USAspending.gov website—as part of ECA's Federal Funding Accountability and Transparency Act (FFATA) reporting requirements.

An SF-PPR, “Performance Progress Report” Cover Sheet with all program reports, including the SF-PPR-E and SF-PPR-F. Quarterly program and financial reports which should include both quantitative and qualitative data you have available.

Award recipients will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VII. Agency Contacts

For questions about this announcement, contact: Callie Ward (wardca@state.gov; 202-632-6431), Office of Citizen Exchanges, ECA/PE/C/PY, SA-5, Floor 3, Department of State, Washington, DC 20037. All correspondence with the Bureau concerning this RFGP should reference the above contact and ECA/PE/C/PY-11-04.

Please read the complete announcement before sending inquiries or submitting proposals. Once the RFGP deadline has passed, Bureau staff may not discuss this competition with applicants until the proposal review process has been completed.

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: November 9, 2010.
Ann Stock
Assistant Secretary for Educational and Cultural Affairs, U.S. Department of State.

[FR Doc. 2010-28832 Filed 11-15-10; 8:45 am]

BILLING CODE 4710-05-P